DEPARTMENT OF HOMELAND SECURITY

Bureau of Customs and Border Protection

Overtime Billing for Customs Inspectional Services; Expiration of User Fee Law

AGENCY: Customs and Border Protection, Department of Homeland Security.

ACTION: General notice.

SUMMARY: This document notifies the public that the customs user fee law (19 U.S.C. 589c) is set to expire as of midnight, September 30, 2003. Congress may extend the law by the date, in which case nothing will change with respect to the collection of customs user fees. The Bureau of Customs and Border Protection (CBP) is publishing this notice to keep the public fully informed of the fees that CBP will collect in the event the law is not extended. Inspectional fees collected by the Agriculture, Plant and Health Inspection Service under 21 U.S.C. 136a and 49 U.S.C. 80503 and by CBP under 8 U.S.C. 1356 will be unaffected.

EFFECTIVE DATES: In the event that the customs user fee law expires at midnight, September 30, 2003, the billing procedures identified in this document will take effect beginning October 1, 2003, and will be reflected in quarterly bills issued after that date. In the event that the customs user fee law is extended prior to midnight, September 30, 2003, nothing will change with respect to the collection of customs user fees. In the event that the user fee law is extended any time after midnight, September 30, 2003, the procedures identified in this document will cease to be applicable at that time and the procedures under the user fee law will be reinstated at that time in accordance with the provisions of the extension.

FOR FURTHER INFORMATION CONTACT: Ed Matthews, Office of Finance (202) 927-0552.

SUPPLEMENTARY INFORMATION:

Background

The Consolidated Omnibus Budget Reconciliation Act (COBRA) of 1985 (Pub. L. 99-272), as amended (codified at 19 U.S.C. 58c; hereafter, section 58c), authorized the U.S. Customs Service (now the Bureau of Customs and Border Protection and hereafter referred to as CBP) to collect fees for processing services by agency personnel relative to the following matters: (1) The arrival in the United States of commercial vessels; (2) the arrival of commercial trucks; (3) the arrival of rail cars; (4) the arrival of private vessels and aircraft; (5) the arrival of air and sea passengers; (6) dutiable mail packages; (7) customs broker permits; (8) the arrival of barges and bulk carriers from Canada or Mexico; and (9) and (10) imported merchandise. (See 19 U.S.C. 58c(1) through (10).) Under section 58c, CBP collects these fees and deposits them into the Customs User Fee Account. Monies from this account are designated to reimburse CBP for overtime compensation, premium pay, benefits on overtime, excess preclearance services, and foreign language proficiency awards.

Under section 58c(e)(6), during the period when the fees of section 58c(a) are authorized, no fees other than the fees of 58c(a) may be imposed for:

i. Cargo inspection, clearance, or other customs activity expense, or services performed;

ii. Agency personnel provided, in connection with the arrival or departure of any commercial vessel, vehicle, or aircraft, or its passengers, crew, stores, material, or cargo, in the United States;

iii. For any preclearance or other agency activity, expense, or service performed, and any personnel provided outside the United States in connection with the departure of any commercial vessel, vehicle, or aircraft, or its passengers, crew, stores, material, or cargo, for the United States;

iv. Any activation or operation (including agency supervision) of any foreign trade zone or subzone established under the Act of June 18, 1934; or

v. The designation or operation (including agency supervision) of any bonded warehouse under 19 U.S.C. 1555.

Under section 58c(j)(3), the fees set forth under section 58c(a) cannot be charged after September 30, 2003. If the customs user fee law is extended prior to midnight September 30, 2003, nothing will change with respect to the collection of customs user fees. If the customs user fee law is allowed to expire, CBP, effective on October 1, 2003, will bill the party in interest for requested special services under 19 CFR 24.17 and 24.18, pursuant to the authority of 31 U.S.C. 9701. CBP estimates that excess preclearance services, overtime billing for air passenger services, and overtime billing for sea passenger services in fiscal year 2004 will be $11,000,000, $53,500,000, and $5,300,000, respectively. The amounts to be recovered for other services are not readily available.

If the user fee law is extended anytime after implementation of the above fee collections authorized under 31 U.S.C. 9701 on October 1, 2003, fee collection under that statute will be discontinued and fee collection under section 58c will be resumed at that time.

CBP notes that inspectional fees collected by the Agriculture, Plant and Health Inspection Service (APHIS) under 21 U.S.C. 136a (relating to the agricultural quarantine inspection user fee) and 49 U.S.C. 80503 (relating to payments for inspection and quarantine services) will continue to be collected by that agency. Also, the immigration inspectional fees that CBP now collects under 8 U.S.C. 1356 (relating to passengers arriving in the United States on commercial vessels or aircraft), which had been collected by the legacy Immigration and Naturalization Service prior to its transfer to CBP effective on March 1, 2003, will continue to be collected by CBP.

Dated: September 25, 2003.
Carol A. Dunham,
Acting Assistant Commissioner, Office of Finance.

[FR Doc. 03-24678 Filed 9-26-03; 8:45 am]

BILLING CODE 4820-02-M